DEPARTMENT OF ENERGY

Federal Energy Regulatory Commission

Combined Notice of Filings #1

Take notice that the Commission received the following electric rate filings:

Docket Numbers: ER13-488-002.

Applicants: Essential Power Rock Springs, LLC, PJM Interconnection, L.L.C.

Description: EP Rock Springs submits compliance filing per 1/23/2014 Order in ER13-488 to be effective 7/1/2013.

Filed Date: 2/13/14.

Accession Number: 20140213-5011.

Comments Due: 5 p.m. ET 3/6/14.

Docket Numbers: ER13-1556-003.

Applicants: Entergy Services, Inc.

Description: ESI Compliance ER13-1556 2-14-2014 to be effective 1/16/2014.

Filed Date: 2/14/14.

Accession Number: 20140214-5035.

Comments Due: 5 p.m. ET 3/7/14.

Docket Numbers: ER13-1896-005.

Applicants: AEP Generation Resources Inc.

Description: AEP Generation Resources Inc. submits tariff filing per 35.17(b): AEP Gen Resources MBR Revision Amd to be effective 3/1/2014.

Filed Date: 2/14/14.

Accession Number: 20140214-5129.

Comments Due: 5 p.m. ET 3/7/14.

Docket Numbers: ER14-126-002.

Applicants: Yellow Jacket Energy, LLC.

Description: Response to Requests for Information, Comment Period and Confidential Treatment to be effective 12/18/2013.

Filed Date: 2/14/14.

Accession Number: 20140214-5068.

Comments Due: 5 p.m. ET 3/7/14.

Docket Numbers: ER14-591-001.

Applicants: Southwest Power Pool, Inc.

Description: 2635 Lincoln Electric System GIA—Compliance Filing to be effective 11/26/2013.

Filed Date: 2/14/14.

Accession Number: 20140214-5026.

Comments Due: 5 p.m. ET 3/7/14.

Docket Numbers: ER14-594-002.

Applicants: Ohio Power Company.

Description: Ohio Power Company submits tariff filing per 35.17(b): Ohio Power MBR Revision Amd to be effective 3/1/2014.

Filed Date: 2/14/14.

Accession Number: 20140214-5128.

Comments Due: 5 p.m. ET 3/7/14.

Docket Numbers: ER14-859-001.

Applicants: Midcontinent Independent System Operator, Inc.

Description: 2014_02_13_SPP JOA Amendment 3 amendment filing to be effective 3/1/2014.

Filed Date: 2/13/14.

Accession Number: 20140213-5007.

Comments Due: 5 p.m. ET 2/24/14.

Docket Numbers: ER14-861-000.

Applicants: Public Service Company of Colorado.

Description: Supplement to December 27, 2013 Public Service Company of Colorado tariff filing.

Filed Date: 2/12/14.

Accession Number: 20140212-5149.

Comments Due: 5 p.m. ET 2/19/14.

Docket Numbers: ER14-863-001.

Applicants: Southwest Power Pool, Inc.

Description: SPP-MISO JOA Emergency Energy Assistance Revisions Amendment to be effective 3/1/2014.

Filed Date: 2/13/14.

Accession Number: 20140213-5006.

Comments Due: 5 p.m. ET 2/24/14.

Docket Numbers: ER14-867-001.

Applicants: AEP Energy, Inc.

Description: AEP Energy, Inc. submits tariff filing per 35.17(b): AEP Energy MBR Revision Amd to be effective 3/1/2014.

Filed Date: 2/14/14.

Accession Number: 20140214-5123.

Comments Due: 5 p.m. ET 3/7/14.

Docket Numbers: ER14-868-001.

Applicants: AEP Retail Energy Partners.

Description: AEP Retail Energy Partners submits tariff filing per 35.17(b): AEP Retail Energy Partners MBR Revision Amd to be effective 3/1/2014.

Filed Date: 2/14/14.

Accession Number: 20140214-5122.

Comments Due: 5 p.m. ET 3/7/14.

Docket Numbers: ER14-869-001.

Applicants: AEP Texas Central Company, Southwestern Electric Power Company, Public Service Company of Oklahoma, AEP Texas North Company.

Description: AEP Texas Central Company submits tariff filing per 35.17(b): CSW Oper Co MBR Revision Amd to be effective 3/1/2014.

Filed Date: 2/14/14.

Accession Number: 20140214-5124.

Comments Due: 5 p.m. ET 3/7/14.

Docket Numbers: ER14-870-001.

Applicants: Indiana Michigan Power Company, Kentucky Power Company, Kingsport Power Company, Ohio Power Company, Wheeling Power Company, Appalachian Power Company.

Description: Indiana Michigan Power Company submits tariff filing per 35.17(b): AEP Operating Companies MBR Revision Amd to be effective 3/1/2014.

Filed Date: 2/14/14.

Accession Number: 20140214-5126.

Comments Due: 5 p.m. ET 3/7/14.

Docket Numbers: ER14-871-001.

Applicants: AEP Energy Partners, Inc.

Description: AEP Energy Partners, Inc. submits tariff filing per 35.17(b): AEP Energy Partners MBR Revision Amd to be effective 3/1/2014.

Filed Date: 2/14/14.

Accession Number: 20140214-5127.

Comments Due: 5 p.m. ET 3/7/14.

Docket Numbers: ER14-872-001.

Applicants: CSW Energy Services, Inc.

Description: CSW Energy Services, Inc. submits tariff filing per 35.17(b): CSW Energy Services MBR Revision Amd to be effective 3/1/2014.

Filed Date: 2/14/14.

Accession Number: 20140214-5120.

Comments Due: 5 p.m. ET 3/7/14.

Docket Numbers: ER14-1306-000.

Applicants: Northeast Utilities Service Company, The Connecticut Light and Power Company.

Description: The United Illuminating Company submits Notice of Cancellation of Certificate of Concurrence of Black Pond Junction Code Works Agreement.

Filed Date: 2/12/14.

Accession Number: 20140212-5160.

Comments Due: 5 p.m. ET 3/5/14.

Docket Numbers: ER14-1314-000.

Applicants: Midcontinent Independent System Operator, Inc.

Description: 2014-02-12_NIPSCO 69kV TUA to be effective 2/13/2014.

Filed Date: 2/12/14.

Accession Number: 20140212-5078.

Comments Due: 5 p.m. ET 3/5/14.

Docket Numbers: ER14-1315-000.

Applicants: Midcontinent Independent System Operator, Inc.

Description: 2014-02-12_NIPSCO 138kV TUA to be effective 2/13/2014.

Filed Date: 2/12/14.

Accession Number: 20140212-5080.

Comments Due: 5 p.m. ET 3/5/14.

Docket Numbers: ER14-1317-000.

Applicants: Sunshine Gas Producers, LLC.

Description: Application for Market-Based Rate Authority to be effective 4/1/2014.

Filed Date: 2/12/14.

Accession Number: 20140212-5115.

Comments Due: 5 p.m. ET 3/5/14.

Docket Numbers: ER14-1318-000.

Applicants: California Independent System Operator Corporation.

Description: 2014-02-12_PriceCorrectionsTariffWaiver to be effective N/A under ER14-1318 Filing Type: 80.

Filed Date: 2/12/14.

Accession Number: 20140212-5117.

Comments Due: 5 p.m. ET 3/5/14.

Docket Numbers: ER14-1319-000.

Applicants: Pacific Gas and Electric Company.

Description: Pre-Energization WPA under Comprehensive Agreement between PG&E and DWR to be effective 2/14/2014.

Filed Date: 2/13/14.

Accession Number: 20140213-5003.

Comments Due: 5 p.m. ET 3/6/14.

Docket Numbers: ER14-1320-000.

Applicants: Midcontinent Independent System Operator, Inc.

Description: 2014-02-13_Northeast Power-ITC-AECI T-T IA to be effective 1/29/2014.

Filed Date: 2/13/14.

Accession Number: 20140213-5004.

Comments Due: 5 p.m. ET 3/6/14.

Docket Numbers: ER14-1321-000.

Applicants: Appalachian Power Company.

Description: 20140213 TCC Att K Refiling to be effective 2/10/2014.

Filed Date: 2/13/14.

Accession Number: 20140213-5012.

Comments Due: 5 p.m. ET 3/6/14.

Docket Numbers: ER14-1322-000.

Applicants: Corinth Energy, LLC.

Description: Notice of MBR Tariff Cancellation to be effective 2/14/2014.

Filed Date: 2/14/14.

Accession Number: 20140214-5021.

Comments Due: 5 p.m. ET 3/7/14.

Docket Numbers: ER14-1323-000.

Applicants: ISO New England Inc.

Description: ISO New England Inc., Capital Budget Quarterly Filing for Fourth Quarter of 2013.

Filed Date: 2/13/14.

Accession Number: 20140213-5091.

Comments Due: 5 p.m. ET 3/6/14.

Docket Numbers: ER14-1324-000.

Applicants: Panoche Energy Center, LLC.

Description: Order No. 784 Compliance Filing to be effective 2/18/2014.

Filed Date: 2/14/14.

Accession Number: 20140214-5104.

Comments Due: 5 p.m. ET 3/7/14.

Docket Numbers: ER14-1325-000.

Applicants: Northern States Power Company, a Minnesota corporation.

Description: 20140214_InterchangeAgreement to be effective 1/1/2014.

Filed Date: 2/14/14.

Accession Number: 20140214-5116.

Comments Due: 5 p.m. ET 3/7/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 14, 2014.
Nathaniel J. Davis, Sr.,
Deputy Secretary.

[FR Doc. 2014-03846 Filed 2-21-14; 8:45 am]

BILLING CODE 6717-01-P